DEPARTMENT OF THE INTERIOR

[DOI-2022-0004; 222D0107SL D2L000000.000000 DL9CSHQS00]

Privacy Act of 1974; System of Records

AGENCY: Office of the Solicitor, Interior.

ACTION: Rescindment of a system of records notice.

SUMMARY: In accordance with the Privacy Act of 1974, the Department of the Interior (DOI) is issuing a public notice of its intent to rescind the Privacy Act system of records, INTERIOR/SOL-4, Workload Analysis, from its existing inventory. During a routine review of DOI system of records notices (SORNs), it was determined that this system of records is no longer necessary as the records in the system are covered under the INTERIOR/DOI-85, Payroll, Attendance, Retirement and Leave Records, SORN. This rescindment will promote the overall streamlining and management of DOI Privacy Act systems of records.

DATES: These changes take effect on August 16, 2022.

ADDRESSES: You may send comments identified by docket number [DOI-2022-0004] by any of the following methods:

• Federal eRulemaking Portal: http://www.regulations.gov. Follow the instructions for sending comments.

• Email: DOI_Privacy@ios.doi.gov. Include docket number [DOI-2022-0004] in the subject line of the message.

• U.S. Mail or Hand-Delivery: Teri Barnett, Departmental Privacy Officer, U.S. Department of the Interior, 1849 C Street NW, Room 7112, Washington, DC 20240.

Instructions: All submissions received must include the agency name and docket number [DOI-2022-0004]. All comments received will be posted without change to http://www.regulations.gov, including any personal information provided.

Docket: For access to the docket to read background documents or comments received, go to http://www.regulations.gov.

You should be aware that your entire comment including your personally identifiable information, such as your address, phone number, email address, or any other personal information in your comment, may be made publicly available at any time. While you may request to withhold your personally identifiable information from public review, we cannot guarantee we will be able to do so.

FOR FURTHER INFORMATION CONTACT: Danna Mingo, Associate Privacy Officer, Office of the Secretary, U.S. Department of the Interior, 7301 W Mansfield Avenue, Mailstop D2605, Lakewood, CO 80235, OS_Privacy@ios.doi.gov or (202) 441-5504.

SUPPLEMENTARY INFORMATION: Pursuant to the provisions of the Privacy Act of 1974, as amended, 5 U.S.C. 552a, DOI is rescinding the INTERIOR/SOL-4, Workload Analysis, SORN from its inventory because it is no longer needed as the records are covered under INTERIOR/DOI-85, Payroll, Attendance, Retirement, and Leave Records, 83 FR 34156 (July 19, 2018). The Workload Analysis system was used to provide information concerning the time spent on assigned work and manage the workload of attorneys employed within the Office of the Solicitor. The Workload Analysis system has been retired and is no longer used to maintain data on attorney workload. Upon review, DOI determined that the INTERIOR/SOL-4, Workload Analysis, SORN is no longer necessary as it was superseded by the Department-wide INTERIOR/DOI-85, Payroll, Attendance, Retirement, and Leave Records, SORN which covers the attorney workload, and time and attendance records. This rescindment will eliminate an unnecessary duplicate notice and is in accordance with the Privacy Act of 1974 and the Office of Management and Budget Circular A-108, Federal Agency Responsibilities for Review, Reporting, and Publication under the Privacy Act.

Rescinding the INTERIOR/SOL-4, Workload Analysis, SORN will have no adverse impacts on individuals as the records are covered under the INTERIOR/DOI-85, Payroll, Attendance, Retirement, and Leave Records, SORN. This rescindment will also promote the overall streamlining and management of DOI Privacy Act systems of records.

SYSTEM NAME AND NUMBER:

Workload Analysis—Interior, Office of the Solicitor-4.

HISTORY:

46 FR 12146 (February 12, 1981); modification published at 86 FR 50156 (September 7, 2021).

Teri Barnett,
Departmental Privacy Officer, Department of the Interior.

[FR Doc. 2022-17621 Filed 8-15-22; 8:45 am]

BILLING CODE 4334-63-P